DEPARTMENT OF COMMERCE

National Oceanic and Atmospheric Administration

[RTID 0648-XB473]

South Atlantic Fishery Management Council; Public Meetings

AGENCY: National Marine Fisheries Service (NMFS), National Oceanic and Atmospheric Administration (NOAA), Commerce.

ACTION: Notice of scoping hearings.

SUMMARY: The South Atlantic Fishery Management Council (Council) will hold a series of scoping meetings via webinar pertaining to Amendment 44 to the Fishery Management Plan for the Snapper Grouper Fishery of the South Atlantic Region. The amendment adjusts the acceptable biological catch for yellowtail snapper based on results of the latest stock assessment and considers adjusting the jurisdictional allocation (between the South Atlantic and Gulf of Mexico). In addition, the amendment would modify catch levels, and sector allocations for the South Atlantic. The Council is also requesting input on potential commercial management measures.

DATES: The scoping meetings will be held via webinar on November 2 and 3, 2021.

ADDRESSES: The meeting will be held via webinar.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The scoping meetings will be conducted via webinar and accessible via the internet from the Council's website at https://safmc.net/safmc-meetings/public-hearings-scoping-meetings/. The scoping meetings will begin at 6 p.m. Registration for the webinars is required. Registration information, a copy of the scoping materials, an online public comment form and any additional information as needed will be posted on the Council's website at https://safmc.net/safmc-meetings/public-hearings-scoping-meetings/ as it becomes available. Public comments must be received by 5 p.m. on November 5, 2021.

Amendment 44 to the Snapper Grouper FMP

The Council must adjust catch levels for yellowtail snapper in response to the most recent stock assessment for the species in the region (SEDAR 64 2019). Yellowtail snapper is considered a single stock distributed in the South Atlantic and the Gulf of Mexico (Gulf). The stock assessment results indicated the stock is not overfished nor undergoing overfishing. However, catch levels must be adjusted based on the acceptable biological catch recommended by the South Atlantic and Gulf of Mexico Councils' Scientific and Statistical Committees (SSC). The acceptable biological catch must first be allocated between the two regions. In addition, the Council is considering modifications to catch levels, sector allocations and possibly establishing commercial management measures.

During the scoping meetings, Council staff will present an overview of the amendment and will be available for informal discussions and to answer questions via webinar. Members of the public will have an opportunity to go on record to provide their comments for consideration by the Council.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: October 12, 2021.
Tracey L. Thompson,
Acting Deputy Director, Office of Sustainable Fisheries, National Marine Fisheries Service.

[FR Doc. 2021-22560 Filed 10-15-21; 8:45 am]

BILLING CODE 3510-22-P